DEPARTMENT OF THE INTERIOR

National Park Service

[NPS-WASO-NRNHL-DTS#-33109; PPWOCRADI0, PCU00RP14.R50000]

National Register of Historic Places; Notification of Pending Nominations and Related Actions

AGENCY: National Park Service, Interior.

ACTION: Notice.

SUMMARY: The National Park Service is soliciting electronic comments on the significance of properties nominated before December 4, 2021, for listing or related actions in the National Register of Historic Places.

DATES: Comments should be submitted electronically by December 30, 2021.

ADDRESSES: Comments are encouraged to be submitted electronically to National_Register_Submissions@nps.gov with the subject line “Public Comment on <property or proposed district name, (County) State>” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before December 4, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARKANSAS

Arkansas County

Buerkle, Paul and Ella, House, 109 East 11th St., Stuttgart, SG100007320

Chicot County

Scott Memorial Methodist Episcopal Church, 350 North Main St., Eudora, SG100007330

Conway County

Stuckey's, 304 North Springfield St., Plumerville, SG100007319

Garland County

Plunkett-Jarrell Grocer Co. Building, 150 Creek St., Hot Springs, SG100007318

Lonoke County

Bank of Carlisle, (Thompson, Charles L., Design Collection TR), 113 North Court St., Carlisle, MP100007317

Miller County

Nix Creek Bridge, US 71 over Nix Cr., Texarkana, SG100007323

Phillips County

First Presbyterian Church, 629 Porter St., Helena-West Helena, SG100007322

Pulaski County

Southwestern Bell Headquarters Building, 1111 West Capitol Ave., Little Rock, SG100007314

Arkansas State Fairgrounds Historic District, 2600 Howard St., Little Rock, SG100007315

Broadmoor Neighborhood Historic District,

Subdivision located west of South University Ave., southeast of Boyle Park Rd., and north of West 32nd St., Little Rock, SG100007316

Randolph County

Bispham-Brown House, 705 North Marr St., Pocahontas, SG100007329

St. Francis County

Forrest City Public Library, (New Deal Recovery Efforts in Arkansas MPS), 421 South Washington St., Forrest City, MP100007321

Union County

Hillsboro Street Viaduct, Hillsboro St. between Washington and Madison Aves., El Dorado, SG100007327

Early View Lodge No. 181, 1965 Mount Zion Rd., Urbana vicinity, SG100007328

Washington County

Presbyterian Center, 902 West Maple St., Fayetteville, SG100007324

Winslow Commercial Historic District, 108, 150, and 182 North Winslow Blvd., Winslow, SG100007325

North Garvin Drive Historic District, 15, 37, and 49 North Gavin Dr., Fayetteville, SG100007326

CONNECTICUT

New London County

Burnham Tavern, 223 North Burnham Hwy. (CT169), Lisbon, SG100007297

DISTRICT OF COLUMBIA

District of Columbia

National Presbyterian Church, 4101, 4121, and 4125 Nebraska Ave. NW; 4120-4124 Van Ness Street NW, Washington, SG100007331

MINNESOTA

Otter Tail County

Lewis House and Medical Office, 415 Douglas Ave., Henning, SG100007309

SOUTH CAROLINA

Edgefield County

Edgefield Cotton Mill-Addison Mill, 100 CTC Dr., Edgefield, SG100007303

Florence County

Cockfield, P.D., House

125 Valley St., Lake City, SG100007306

Greenville County

Triangle Building, 1203-1211 Pendleton St., Greenville, SG100007305

Oconee County

Seneca Cotton Mill, 1300 East South 6th St., Seneca, SG100007304

York County

Sturgis, R.L. and Annie, House, 522 East Main St., Rock Hill, SG100007302

VERMONT

Bennington County

Rupert Village Historic District, VT153, Rupert Mountain, West Pawlet, and Youlin Rds., Rupert, SG100007308

A request for removal has been made for the following resources:

ARKANSAS

Benton County

Osage Creek Bridge, (Benton County MRA), 4½ mi. north of Tontitown, Tontitown, OT87002418

Garland County

Greenwood School, 1425 Greenwood Ave., Hot Springs, OT100001995

Newton County

Buffalo River Bridge, (Historic Bridges of Arkansas MPS), AR 7, over the Buffalo River, Pruitt, OT90000509

White County

Moore House, (White County MPS), 405 Center St., Searcy, OT91001210

Additional documentation has been received for the following resources:

ARIZONA

Pima County

Jefferson Park Historic District (Additional Documentation), 1290 Edison St., Tucson, AD12000241

Iron Horse Expansion Historic District (Additional Documentation), 601 East 10th St., Tucson, AD86001347

OREGON

Benton County

College Hill West Historic District (Additional Documentation), Roughly bounded by NW Johnson and Polk Aves., NW Arnold Way, and NW 36th St., Corvallis, AD02000827

Multnomah County

Laurelhurst Historic District (Additional Documentation), (Historic Residential Suburbs in the United States, 1830-1960 MPS), Roughly bounded by NE Stark, NE Senate. NE 44th & NE 32nd, Portland, AD100003462

Authority: Section 60.13 of 36 CFR part 60

Dated: December 7, 2021.
Sherry A. Frear,
Chief, National Register of Historic Places/National Historic Landmarks Program.

[FR Doc. 2021-27077 Filed 12-14-21; 8:45 am]

BILLING CODE 4312-52-P